DEPARTMENT OF TRANSPORTATION

Office of the Secretary

Notice of Applications for Certificates of Public Convenience and Necessity and Foreign Air Carrier Permits Filed Under Subpart B (Formerly Subpart Q) During the Week Ending January 3, 2003

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the answer period, DOT may process the application by expedited procedures. Such procedures may consist of the adoption of a show-cause order, a tentative order, or in appropriate cases a final order without further proceedings.

Docket Number: OST-2002-14178.

Date Filed: December 30, 2002.

Due Date for Answers, Conforming Applications, or Motion to Modify Scope: January 21, 2003.

Description: Application of Israir Airlines and Tourism Ltd., pursuant to 49 U.S.C. 41301, 14 CFR part 211 and subpart B, requesting a foreign air carrier permit enabling Israir to engage in charter foreign air transportation of persons and property between a point or points in Israel and a point or points in the United States and in other charter trips in foreign air transportation, subject to the terms, conditions and limitations of the Department's regulations governing charters.

Dorothy Y. Beard,
Federal Register Liaison.

[FR Doc. 03-688 Filed 1-13-03; 8:45 am]

BILLING CODE 4910-62-P